DEPARTMENT OF ENERGY

Federal Energy Regulatory Commission

Combined Notice of Filings #2

Take notice that the Commission received the following electric rate filings:

Docket Numbers: ER11-3322-001.

Applicants: PJM Interconnection, L.L.C.

Description: PJM Interconnection, L.L.C. submits tariff filing per 35: Compliance Filing per the November 4, 2011 Order in Docket ER11-3322 to be effective 11/7/2011.

Filed Date: 1/5/12.

Accession Number: 20120105-5120.

Comments Due: 5 p.m. ET 1/17/12.

Docket Numbers: ER11-4717-001.

Applicants: International Paper Company.

Description: IP Baseline eTariff—Clone to be effective 9/30/2011.

Filed Date: 1/5/12.

Accession Number: 20120105-5063.

Comments Due: 5 p.m. ET 1/26/12.

Docket Numbers: ER12-763-000.

Applicants: Ohio Valley Electric Corporation.

Description: Tariff Filing—IA and FA between DEO and OVEC to be effective 1/1/2012.

Filed Date: 1/5/12.

Accession Number: 20120105-5057.

Comments Due: 5 p.m. ET 1/26/12.

Docket Numbers: ER12-764-000.

Applicants: Carolina Power & Light Company.

Description: Carolina Power & Light Company submits tariff filing per 35.13(a)(2)(iii): Rate Schedule No. 180 of Carolina Power and Light Company to be effective 1/1/2012.

Filed Date: 1/5/12.

Accession Number: 20120105-5107.

Comments Due: 5 p.m. ET 1/26/12.

Docket Numbers: ER12-765-000.

Applicants: RC Cape May Holdings, LLC.

Description: RC Cape May Holdings, LLC submits tariff filing per 35.13(a)(2)(iii): Update to Category Seller Designation to be effective 1/5/2012.

Filed Date: 1/5/12.

Accession Number: 20120105-5121.

Comments Due: 5 p.m. ET 1/26/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2012.
Nathaniel J. Davis, Sr.,
Deputy Secretary.

[FR Doc. 2012-643 Filed 1-13-12; 8:45 am]

BILLING CODE 6717-01-P